DEPARTMENT OF ENERGY

Energy Information Administration

Agency Information Collection Activities: Proposed Collection; Comment Request

AGENCY: Office of Electricity Delivery and Energy Reliability (OE), Department of Energy (DOE).

ACTION: Agency Information Collection Activities: Proposed Collection; Comment Request.

SUMMARY: The Office of Electricity Delivery and Energy Reliability is soliciting comments on the proposed revisions and three-year extension to the OE-417, “Electric Emergency Incident and Disturbance Report.”

DATES: Comments must be filed by May 23, 2008. If you anticipate difficulty in submitting comments within that period, contact the person listed below as soon as possible.

ADDRESSES: Send comments to Alice Lippert. To ensure receipt of the comments by the due date, submission by Fax 202-586-2623 or e-mail: Alice.Lippert@hq.doe.gov is recommended. The mailing address is (name of component), (routing symbol), Forrestal Building, U.S. Department of Energy, Washington, DC 20585. Alternatively, Alice Lippert may be contacted by telephone at 202-586-9600.

FOR FURTHER INFORMATION CONTACT: Requests for additional information or copies of any forms and instructions should be directed to Alice Lippert at the address listed above.

SUPPLEMENTARY INFORMATION:

I. Background

II. Current Actions

III. Request for Comments

I. Background

The Federal Energy Administration Act of 1974 (Pub. L. No. 93-275, 15 U.S.C. 761 et seq.) and the DOE Organization Act (Pub. L. No. 95-91, 42 U.S.C. 7101 et seq.) require the DOE to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the DOE to prepare data requests that maximize the utility of the information collected, and to assess the impact of collection requirements on the public. Also, the DOE will later seek approval of this collection of information by the Office of Management and Budget (OMB) under section 3507(a) of the Paperwork Reduction Act of 1995.

The DOE collects information on the generation, distribution, and transmission of electric energy. The DOE collects information on emergency situations in electric energy supply systems so that appropriate Federal emergency response measures can be implemented in a timely and effective manner.

The purpose of this notice is to seek public comment on the revised Form OE-417, “Emergency Incident and Disturbance Report,” used to report electric emergency incidents and disturbances to the DOE. The Form OE-417 reports will enable the Department to monitor electric emergency incidents and disturbances in the United States (including all 50 States, the District of Columbia, Puerto Rico, U.S. Virgin Islands, and the U.S. Trust Territories) so that the Government may help prevent the physical or virtual disruption of the operation of any critical infrastructure.

Currently, DOE's Office of Electricity Delivery and Energy Reliability (OE) uses Form OE-417 to monitor major system incidents on electric power systems and to conduct after-action investigations on significant interruptions of electric power. The information is used to meet DOE national security responsibilities and requirements as set forth in the U.S. Department of Homeland Security's National Response Framework. The information may also be used in developing legislative recommendations/reports to Congress and coordinating Federal efforts regarding activities such as incidents/disturbances in critical infrastructure protection, continuity of electric industry operations, and continuity of operations. The information submitted may also be used by the Energy Information Administration to analyze significant interruptions of electric power.

II. Current Actions

The OE is considering adding an additional criterion under the “Criteria for Filing” which would require facilities to report and contingencies involving extreme events which put stress on part(s) of an electric grid. These events may or may not cause service interruptions to customers.

The information requested in Schedule 2 will be revised to allow respondents to have one area of the OE-417 form in which all the information is treated as protected. Previously, contact information included in Schedule 1 will be moved into Schedule 2 with no additional changes. In the Narrative of Schedule 2, a box has been added which allows respondents to put in the date of the “Estimated Restoration Date for all Affected Customers Who Can Receive Power.” This will allow the DOE to know when all customers affected by the incident will have their power restored.

In Schedule 1, line 12 asked for the “Estimated Date/Time of Restoration.” That line has been taken off of the form, but an inquiry about the estimated restoration time has been added into Schedule 2 to be considered protected information.

Line 9 of Schedule 1 which asked for a “Teleconference Number” has been deleted from the form. This line will not appear in the contact information lines which were moved to Schedule 2, discussed above.

The data will continue to be filed with the DOE's Emergency Operations Center. This DOE facility operates 24 hours daily, 7 days a week. Electronic submission is the preferred method of notification. Fax and telephone contact are also accepted. However, optional filing modes are being considered. The DOE is investigating an online submission process whereby the OE-417 form could be filled via a secure internet data collection system. This system would allow companies to submit forms directly to the DOE without having to e-mail or fax completed forms into the DOE Emergency Operations Center.

III. Request for Comments

Prospective respondents and other interested parties should comment on the actions discussed in item II. The following guidelines are provided to assist in the preparation of comments.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated to average 10 minutes for the Emergency Incident Report (Schedule 1, Part A) that is to be filed within 1 hour; the overall public reporting burden for the form is estimated at 2 hours to cover any detailed reporting in the Normal/Update Report (Schedule 1, Part B and Schedule 2) which is filed later (up to 48 hours), if required. The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Please refer to the proposed forms and instructions for more information about the purpose, who must report, when to report, where to submit, the elements to be reported, detailed instructions, provisions for confidentiality, and uses (including possible nonstatistical uses) of the information. For instructions on obtaining materials, see the FOR FURTHER INFORMATION CONTACT section.

Comments submitted in response to this notice will be summarized and/or included in the request for OMB approval of the form. They also will become a matter of public record.

Statutory Authority: Section 3507(h)(1) of the Paperwork Reduction Act of 1995 (Pub. L. 104-13, 44 U.S.C. Chapter 35), Federal Energy Administration Act of 1974 (Pub. L. 93-275, 15 U.S.C. 761 et seq.), and the DOE Organization Act (Pub. L. 95-91, 42 U.S.C. 7101 et seq.).

Issued in Washington, DC, March 19, 2008.
Jay H. Casselberry,
Agency Clearance Officer, Energy Information Administration.

[FR Doc. E8-5865 Filed 3-21-08; 8:45 am]

BILLING CODE 6450-01-P